DEPARTMENT OF HEALTH AND HUMAN SERVICES

Administration for Children and Families

Proposed Information Collection Activity; Runaway and Homeless Youth Homeless Management Information System (RHY-HMIS; New Collection)

AGENCY: Family and Youth Services Bureau (FYSB), Administration on Children, Youth and Families (ACYF), Administration for Children and Families, HHS.

ACTION: Request for public comment.

SUMMARY: The Administration on Children, Youth and Families (ACYF), Family and Youth Services Bureau has a legislative requirement to collect and maintain client statistical records on the numbers and the characteristics of runaway and homeless youth, and youth at risk of family separation, who receive shelter and supportive services through the Runaway and Homeless Youth (RHY) Program funding. RHY data collection is integrated with the U.S. Department of Housing and Urban Development's (HUD) Homeless Management Information System (HMIS).

DATES: Comments due within 60 days of publication. In compliance with the requirements of Section 3506(c)(2)(A) of the Paperwork Reduction Act of 1995, the Administration for Children and Families (ACF) is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: The RHY Program has a requirement to collect information from all youth who receive shelter and supportive services with RHY funding. In April 2015, ACYF, through a formal Memorandum of Understanding, integrated the RHY data collection with HUD's HMIS and HUD's data standards along with other federal partners. HUD's data standards has its own OMB clearance, but ACYF is requesting approval for the RHY data collection efforts as HUD's will no longer include all federal partners. The data collection instrument includes universal data elements, which are collected by all federal partners and program specific elements, which are tailored to each program using HUD's HMIS.

Respondents: Youth who receive emergency and longer-term shelter and supportive services under RHY funding.

Annual Burden Estimates
Instrument | Total number of respondents | Total number of responses per respondent | Average burden hours per response | Total burden hours | Annual burden hours
RHY-HMIS: Basic Center Program (Intake) | 123,000 | 1 | 0.38 | 46,740 | 15,580
RHY-HMIS: Basic Center Program (Exit) | 123,000 | 1 | 0.33 | 40,590 | 13,530
RHY-HMIS: Transitional Living Program (including Maternity Group Home program and TLP Demonstration Programs; Intake) | 18,000 | 1 | 0.38 | 6,840 | 2,280
RHY-HMIS: Transitional Living Program (including Maternity Group Home program and TLP Demonstration Programs; Exit) | 18,000 | 1 | 0.33 | 5,940 | 1,980
RHY-HMIS: Street Outreach Program (Contact) | 108,000 | 1 | 0.5 | 54,000 | 18,000
RHY-HMIS: Street Outreach Program (Engagement) | 30,000 | 1 | 0.28 | 8,400 | 2,800

Estimated Total Annual Burden Hours: 54,170.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Reconnecting Homeless Youth Act of 2008 (P.L. 110-378) through FY 2013 and more recently reauthorized by the Juvenile Justice Reform Act through FY 2019.

Mary B. Jones,
ACF/OPRE Certifying Officer.

[FR Doc. 2020-09458 Filed 5-1-20; 8:45 am]

BILLING CODE 4182-04-P